DEPARTMENT OF ENERGY

Energy Information Administration

Agency Information Collection Activities: Submission for OMB Review; Comment Request

AGENCY: U.S. Energy Information Administration (EIA), U.S. Department of Energy (DOE).

ACTION: Agency information collection activities: Submission for OMB review; comment request.

SUMMARY: The EIA has submitted an information collection request to the Office of Management and Budget (OMB) under the provisions of the Paperwork Reduction Act (PRA) (44 U.S.C. 3501 et seq.) for review and reinstatement of the Form DOE-887, “DOE Customer Surveys,” OMB Control Number 1901-0302, which expired on December 31, 2012. Form DOE-877 will garner qualitative customer and stakeholder feedback in an efficient, timely manner, in accordance with the Administration's commitment to improving service delivery. By qualitative feedback we mean information that provides useful insights on perceptions and opinions, but are not statistical surveys that yield quantitative results that can be generalized to the population of study.

DATES: Comments must be filed by April 17, 2013. If you anticipate that you will be submitting comments but find it difficult to do so within that period, you should contact the OMB Desk Officer for DOE listed below as soon as possible.

ADDRESSES: Written comments should be sent to Chad Whiteman, DOE Desk Officer, Office of Information and Regulatory Affairs, Office of Management and Budget, New Executive Office Building, Room 10102, 735 17th Street NW., Washington, DC 20503, or by email at chad_s_whiteman@omb.eop.gov. Alternatively, Mr. Whiteman may be contacted by telephone at (202) 395-4718.

A copy of the written comments should be sent to Colleen Blessing, EI-40, U.S. Energy Information Administration, 1000 Independence Avenue SW., Washington, DC 20585, or by email at colleen.blessing@eia.gov. Alternatively, Ms. Blessing may be contacted by telephone at (202) 586-6482.

FOR FURTHER INFORMATION CONTACT: Requests for additional information should be made to Colleen Blessing at the contact information above.

SUPPLEMENTARY INFORMATION: This section contains:

1. OMB Number: 1901-0302.

2. Information Collection Request Title: DOE-887, “DOE Customer Survey”.

3. Type of Request: Reinstatement without change of a previously approved collection.

4. Purpose: The feedback obtained from this collection will provide insights into customer or stakeholder perceptions, experiences and expectations, provide an early warning of issues with service, or focus attention on areas where communication, training or changes in operations might improve delivery of products or services. These collections will allow for ongoing, collaborative and actionable communications between the Agency and its customers and stakeholders. It will also allow feedback to contribute directly to the improvement of program management.

5. Annual Estimated Number of Respondents: 12,500.

6. Annual Estimated Number of Total Responses: 50,000.

7. Annual Estimated Number of Burden Hours: 12,500.

8. Annual Estimated Reporting and Recordkeeping Cost Burden: $0. EIA estimates that there are no additional costs to respondents associated with the surveys other than the costs associated with the burden hours.

Statutory Authority: Executive Order 12862 of September 11, 1993, “Setting Customer Service Standards,” § 1 58 FR, 48257 (September 14, 1993).

Issued in Washington, DC, on March 8, 2013.
Renee Miller,
Acting Director, Office of Survey Development and Statistical Integration, U.S. Energy Information Administration.

[FR Doc. 2013-06149 Filed 3-15-13; 8:45 am]

BILLING CODE 6450-01-P